DEPARTMENT OF THE INTERIOR

Geological Survey

[GX18GG00995TR00]

Notice of Public Meeting of Scientific Earthquake Studies Advisory Committee

AGENCY: U.S. Geological Survey, Interior.

ACTION: Notice.

SUMMARY: In accordance with the Federal Advisory Committee Act, and the Earthquake Hazards Reduction Authorization Act of 1977, the Scientific Earthquake Studies Advisory Committee (SESAC) will meet as indicated below.

DATES: The SESAC will hold public meetings on March 5-6, 2018. On March 5, 2018, the SESAC will meet from 9:00 a.m. to 5:00 p.m. and on March 6, 2018, from 9:00 a.m. to 2:30 p.m.

ADDRESSES: The SESAC meeting will be held at the Caltech Avery Library, 370 Holliston Avenue, Pasadena, California.

FOR FURTHER INFORMATION CONTACT: Questions should be directed to Dr. William Leith, U.S. Geological Survey, 12201 Sunrise Valley Drive, MS 905, Reston, Virginia 20192. Dr. Leith can be reached by calling (703) 648-6712 or via email at wleith@usgs.gov.

SUPPLEMENTARY INFORMATION: The SESAC advises the Director of the U.S. Geological Survey (USGS) on matters relating to the USGS's participation in the National Earthquake Hazards Reduction Program. The Committee is comprised of members from academia, industry, and State government. In this meeting, the Committee will review the current activities of the USGS Earthquake Hazards Program and discuss future priorities. All meetings are open to the public.

Public Disclosure: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2; 42 U.S.C. 7709.

William Leith,
Senior Science Advisor for Earthquake and Geologic Hazards.

[FR Doc. 2018-03286 Filed 2-16-18; 8:45 am]

BILLING CODE 4338-11-P